DEPARTMENT OF COMMERCE

Census Bureau

Agency Information Collection Activities; Submission to the Office of Management and Budget (OMB) for Review and Approval; Comment Request; Longitudinal Employer-Household Dynamics (LEHD)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 25, 2020 during a 60-day comment period. This notice allows for an additional 30 days for public comments.

Agency: U.S. Census Bureau.

Title: Longitudinal Employer-Household Dynamics (LEHD).

OMB Control Number: 0607-1001.

Form Number(s): None.

Type of Request: Regular submission, Request for an Extension, without Change, of a Currently Approved Collection.

Number of Respondents: 54.

Average Hours per Response: No more than 8 hours required to identify and send/post required data sets.

Burden Hours: 1,728 hours.

Needs and Uses: The data products developed by the LEHD program provide statistics on employment, earnings, and job flows at detailed levels of geography and industry and for different demographic groups. The potential and realized uses of these data products and their supporting dissemination tools are far-reaching, both for unraveling many important questions in economic research and for the provision of new statistical products. Over the first five months of 2017, the Census Bureau received more than 105,000 visits to its LEHD dissemination tools. Just some examples of novel use of LEHD data include:

• The New Jersey State Data Center used OnTheMap for Emergency Management to quickly learn the impact of hurricane Sandy with regards to identification of Federal Disaster Declaration Areas and its effects on communities (i.e., population and workforce).

• The state of Nevada has used the Job-to-Job Flows data product to understand the migration of its workforce that supports the hotel industry.

• The Philadelphia Center City District used LEHD data to understand the details of the area's workforce and economy in order to monitor the effectiveness of economic programs and policy initiatives.

Additional examples of how the LEHD data products and supporting dissemination tools have been used can be found at the LEHD website: https://lehd.ces.census.gov/led_in_action/.

Affected Public: State, Local, or Tribal government.

Frequency: Quarterly.

Respondent's Obligation: Voluntary via a Memorandum of Understanding (MOU).

Legal Authority: The authority to conduct the LEHD program is 13 U.S.C. Section 6. Confidentiality of all collected data is assured by 13 U.S.C. Section 9.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1001.

Sheleen Dumas,
Department PRA Clearance Officer, Office of the Chief Information Officer, Commerce Department.

[FR Doc. 2020-28139 Filed 12-21-20; 8:45 am]

BILLING CODE 3510-07-P